OFFICE OF SCIENCE AND TECHNOLOGY POLICY

National Nanotechnology Initiative Meetings

AGENCY: Office of Science and Technology Policy (OSTP).

ACTION: Notice of public meetings.

SUMMARY: The National Nanotechnology Coordination Office (NNCO), on behalf of the Nanoscale Science, Engineering, and Technology (NSET) Subcommittee of the Committee on Technology, National Science and Technology Council (NSTC), will facilitate stakeholder discussions of targeted nanotechnology topics through workshops and webinars, as well as community of research and network meetings between the publication date of this Notice and December 31, 2023.

DATES: The NNCO will hold one or more workshops and webinars, as well as community of research and network meetings between the publication date of this Notice and December 31, 2023.

ADDRESSES: Event information, including addresses, will be posted on https://www.nano.gov/. For information about upcoming workshops and webinars, please visit https://www.nano.gov/get-involved/research-community/meetings-and-events and https://www.nano.gov/PublicWebinars. For more information on the networks and communities of research, please visit https://www.nano.gov/get-involved/research-community/networks-and-communities.

FOR FURTHER INFORMATION CONTACT: Patrice Pages at info@nnco.nano.gov or 202-517-1041.

SUPPLEMENTARY INFORMATION: These public meetings address the charge in the 21st Century Nanotechnology Research and Development Act for NNCO to provide “for public input and outreach . . . by the convening of regular and ongoing public discussions.” Workshop and webinar topics may include technical subjects; environmental, health, and safety issues related to nanomaterials (nanoEHS); business case studies; or other areas of potential interest to the nanotechnology community. Areas of focus for the communities of research may include research on nanoEHS; nanotechnology education; nanomedicine; nanomanufacturing; or other areas of potential interest to the nanotechnology community. The communities of research are not intended to provide any government agency with advice or recommendations; such action is outside of their purview.

Registration: Due to space limitations, pre-registration for workshops is required. Workshop registration is on a first-come, first-served basis. Registration information will be available at https://www.nano.gov/get-involved/research-community/meetings-and-events. Registration for the webinars will open approximately two weeks prior to each event and will be capped at 500 participants or as space limitations dictate. Individuals planning to attend a webinar can find registration information at https://www.nano.gov/PublicWebinars. Written notices of participation for workshops, webinars, networks, or communities of research should be sent by email to info@nnco.nano.gov.

Meeting Accommodations: Individuals requiring special accommodation to access any of these public events should contact info@nnco.nano.gov at least 10 business days prior to the meeting so that appropriate arrangements can be made.

Dated: December 5, 2022.
Rachel Wallace,
Deputy General Counsel.

[FR Doc. 2022-26740 Filed 12-8-22; 8:45 am]

BILLING CODE 3270-F2-P